DEPARTMENT OF TRANSPORTATION

Federal Highway Administration

Notice of Final Federal Agency Action on Proposed Highway in Georgia the Interstate 75 (I-75) Express, Clayton and Henry Counties, Georgia (Atlanta Metropolitan Area)

AGENCY: Federal Highway Administration (FHWA), DOT.

ACTION: Notice of Limitations on Claims for Judicial Review of Action by FHWA and Other Federal Agencies.

SUMMARY: This notice announces actions taken by FHWA and other Federal agencies that are final within the meaning of 23 U.S.C. 139(l)(1). The I-75 Express Lanes Project will design a managed lane system along I-75 from the SR 155 (Zack Hinton Parkway, South) interchange in Henry County north to the SR 138 (Stockbridge Highway) interchange in Clayton counties, a distance of approximately 17.94 miles. Those actions grant licenses, permits and approvals for the project.

DATES: By this notice, the FHWA is advising the public of the final agency actions subject to 23 U.S.C. 139(l)(1). A claim seeking judicial review of the Federal agency action on the highway project will be barred unless the claim is filed on or before December 2, 2013. If the Federal law that authorizes judicial review of a claim provides a time period of less than 150 days for filing such claim, then that shorter time period still applies.

FOR FURTHER INFORMATION CONTACT: Mr. Rodney Barry, Division Administrator, Georgia Division, Federal Highway Administration, 61 Forsyth Street, Suite 17T100; Atlanta, Georgia 30303; 8:00 a.m. to 5:00 p.m. (eastern time) Monday through Friday, 404-562-3630; email: Rodney.Barry@dot.gov. For Georgia Department of Transportation (GDOT): Mr. Keith Golden Commissioner, Georgia Department of Transportation, 600 West Peachtree Street, 22nd Floor, Atlanta, Georgia, 30308, 8:00 a.m. to 5:00 p.m. (eastern time) Monday through Friday, Telephone: (404) 631-1005, Email: KGolden@dot.ga.gov.

SUPPLEMENTARY INFORMATION: Notice is hereby given that the FHWA and other Federal agencies have taken final actions by issuing licenses, permits and approvals for the following highway project in the State of Georgia: The I-75 Express lanes project consists of constructing managed lanes from the SR 155 (Zack Hinton Parkway, South) interchange in Henry County north to the SR 138 (Stockbridge Highway) interchange located in metropolitan Atlanta, Georgia. The Selected Alternative will construct managed lanes in Henry County at the I-75 Bridge over SR 155 and terminate in Clayton County approximately 600 feet south of the I-75 southbound on-ramp from SR 139 and at SR 139 on I-675. From SR 155 to approximately one mile south of Mt. Carmel Road, a single reversible lane will be constructed. The single lane will then transition to two reversible lanes, which will continue to the northern terminus of the facility. Intelligent Transportation System infrastructure will be constructed to support the usage of the managed lanes. The facility will include improvements of approximately 17.94 miles on I-75. Congestion on this facility will be managed by electronic toll lane (ETL). The purpose of the project is listed below:

• Consistency with regional transportation planning initiatives.

• Provide reliable trip times and mobility

• Improve travel choices

• Expedite project delivery through the use of tolling for financing (construction financing implications)

• Reduce congestion accommodate regional growth and accessibility

The actions by the Federal agencies and the laws under which such actions were taken are described in the Draft Environmental Assessment (DEA), Final Environmental Assessment (EA) and in the FHWA Finding of No Significant Impact (FONSI) approved on March 12, 2013 and June 28, 2013 respectively, and in other documents in the FHWA project records. The DEA, FEA/FONSI and other project records are available by contacting FHWA or the Georgia Department of Transportation at the addresses listed above. The FHWA EA/FONSI, can be reviewed and downloaded from the project Web site at http://www.I75Express.com or at the following offices: GDOT District 3 Area Office, 115 Transportation Boulevard, Thomaston, Georgia 30286; GDOT District 7 Office, 5025 New Peachtree Road, Chamblee, Georgia 30341; McDonough Public Library, 1001 Florence McGarity Boulevard, McDonough, Georgia 30252; Cochran Public Library, 174 Birch Street, Stockbridge, Georgia 30281 and Clayton County Library System, Morrow Branch, 6225 Maddox Road, Morrow, Georgia 30260. Paper copies are available on request by contacting Loren Bartlett, Georgia Department of Transportation, 600 West Peachtree Street, 22nd Floor, Atlanta, Georgia, 30308, Telephone: (404) 631-1642, Email: lbartlett@dot.ga.gov.

A final decision regarding a Section 404 permit for this project has not yet been made. This notice, therefore, does not apply to the Section 404 permitting process for this project. This notice applies to all Federal agency decisions as of the issuance date of this notice and all laws under which such actions were taken, including but not limited to:

1. General: National Environmental Policy Act (NEPA) [42 U.S.C. 4321-4351]; Federal-Aid Highway Act [23 U.S.C. 109] and [23 U.S.C. 128];

2. Air: Clean Air Act, [42 U.S.C. 7401-7671(q)];

3. Land: Section 4(f) of the Department of Transportation Act of 1966 [49 U.S.C. 303];

4. Wildlife: Endangered Species Act [16 U.S.C. 1531-1544]; Migratory Bird Treaty Act [16 U.S.C. 703-712];

5. Historic and Cultural Resources: Section 106 of the National Historic Preservation Act of 1966, as amended [16 U.S.C. 470f];

6. Social and Economic: Civil Rights Act of 1964 [42 U.S.C. 2000(d)-2000(d)(1)]; Farmland Protection Policy Act (FPPA) [7 U.S.C. 4201-4209];

7. Water Resources: Safe Drinking Water Act [42 U.S.C. 300f et seq.]; Flood Disaster Protection Act [42 U.S.C. 4001-12].

8. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139(l)(1), as amended by Moving Ahead for Progress in the 21st Century Act (MAP-21), Pub. L. 112-141, § 1308, 126 Stat. 405 (2012).

Issued on: June 28, 2013.
Rodney Barry,
Division Administrator, Atlanta, Georgia.

[FR Doc. 2013-16112 Filed 7-3-13; 8:45 am]

BILLING CODE 4910-22-P